FEDERAL RESERVE SYSTEM

Change in Bank Control Notices; Acquisitions of Shares of Bank or Bank Holding Companies; Correction

This notice corrects a notice (FR Doc. 00-29930) published on page 70570 of the issue for Friday, November 24, 2000.

Under the Federal Reserve Bank of Minneapolis heading, the entry for David Bradley Erickson, Lakeland Shores, Minnesota, is revised to read as follows:

A. Federal Reserve Bank of Minneapolis (JoAnne F. Lewellen, Assistant Vice President) 90 Hennepin Avenue, Minneapolis, Minnesota 55480-0291:

1. David Bradley Erickson, Lakeland Shores, Minnesota; to acquire additional voting shares of Freedom Bancorporation, Inc., Lindstorm, Minnesota, and thereby indirectly acquire additional voting shares of Lake Area Bank, Lindstorm, Minnesota.

Comments on this application must be received by December 8, 2000.

Board of Governors of the Federal Reserve System, November 27, 2000.
Robert deV. Frierson,
Associate Secretary of the Board.

[FR Doc. 00-30548 Filed 11-29-00; 8:45 am]

BILLING CODE 6210-01-P